DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Professional Development Workshops and Formal Evaluation of NOAA Online Education Materials.

Form Number(s): None.

OMB Approval Number: None.

Type of Request: Regular submission.

Burden Hours: 855.

Number of Respondents: 1,560.

Average Hours Per Response: Pre-workshop evaluations and student pre- and post-lesson evaluations, 15 minutes; post-workshop evaluations, 30 minutes; teacher follow-up evaluations, 1 hour.

Needs and Uses: The project has three primary goals: (1) To provide a series of three one-day professional development opportunities whereby educators will learn more about coastal and ocean science, and about the wide variety of online tools and resources available to them via the NOAA Discovery Center and Ocean Explorer Web sites; (2) To develop and implement an outcomes-based evaluation of the three educator professional development workshops; and (3) To implement an outcomes-based evaluation of the online tools and resources available through the NOAA Discovery Center and Ocean Explorer Web sites.

Affected Public: Individuals and households.

Frequency: One-time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: March 9, 2007.
Gwellnar Banks,
Management Analyst, Office of the Chief Information Officer.

[FR Doc. E7-4706 Filed 3-14-07; 8:45 am]

BILLING CODE 3510-22-P